ENVIRONMENTAL PROTECTION AGENCY

[CO-001-0040; FRL-6844-2]

Adequacy Status of Submitted State Implementation Plans for Transportation Conformity Purposes

AGENCY: Environmental Protection Agency (EPA).

ACTION: Notice of adequacy determination.

SUMMARY: In this document, EPA is notifying the public that we have found that the motor vehicle emissions budgets in the following submitted Colorado maintenance plans are adequate for conformity purposes: The Denver carbon monoxide maintenance plan, the Pagosa Springs PM10 maintenance plan, and the Telluride PM10 maintenance plan, all submitted on May 10, 2000. On March 2, 1999, the D.C. Circuit Court ruled that submitted State Implementation Plans (SIPs) cannot be used for conformity determinations until EPA has affirmatively found them adequate. As a result of our finding, the Denver Regional Council of Governments, the Colorado Department of Transportation and the U.S. Department of Transportation are required to use the motor vehicle emissions budgets from these submitted maintenance plans for future conformity determinations.

DATES: This document is effective August 18, 2000.

FOR FURTHER INFORMATION CONTACT: Megan Williams, Air & Radiation Program (8P-AR), United States Environmental Protection Agency, Region 8, 999 18th Street, Suite 500, Denver, Colorado 80202-2466, ph. (303) 312-6431 The letter documenting our finding is available at EPA's conformity website: http://www.epa.gov/oms/transp/conform/adequacy.htm.

SUPPLEMENTARY INFORMATION: Today's notice is simply an announcement of a finding that we have already made. EPA Region 8 sent a letter to the Colorado Air Pollution Control Division on July 12, 2000 stating that the motor vehicle emissions budgets in the submitted Denver carbon monoxide maintenance plan, Pagosa Springs PM10 maintenance plan, and Telluride PM10 maintenance plan are adequate. This finding has also been announced on EPA's conformity website: http://www.epa.gov/oms/transp/conform/adequacy.htm.

Transportation conformity is required by section 176(c) of the Clean Air Act. EPA's conformity rule requires that transportation plans, programs, and projects conform to SIPs and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved, and vice versa.

We've described our process for determining the adequacy of submitted SIP budgets in guidance (May 14, 1999 memo titled “Conformity Guidance on Implementation of March 2, 1999 Conformity Court Decision”). We followed this guidance in making our adequacy determination.

Authority: 42 U.S.C. 7401 et seq.

Dated: July 26, 2000.
Jack McGraw,
Acting Regional Administrator, Region VIII.

[FR Doc. 00-19683 Filed 8-2-00; 8:45 am]

BILLING CODE 6560-50-U